DEPARTMENT OF TRANSPORTATION

Federal Aviation Administration

14 CFR Part 39

[Docket No. FAA-2016-5589; Directorate Identifier 2014-NM-252-AD; Amendment 39-18678; AD 2016-20-12]

RIN 2120-AA64

Airworthiness Directives; Airbus Airplanes

AGENCY: Federal Aviation Administration (FAA), Department of Transportation (DOT).

ACTION: Final rule.

SUMMARY: We are superseding Airworthiness Directive (AD) 2012-20-07 for certain Airbus Model A318, A319, A320, and A321 series airplanes. AD 2012-20-07 required revising the Airworthiness Limitations section (ALS) of the Instructions for Continued Airworthiness (ICA) to incorporate new limitations for fuel tank systems, and revising the maintenance program to incorporate revised fuel maintenance and inspection tasks. This new AD requires revising the maintenance or inspection program to incorporate revised fuel airworthiness limitations. This AD was prompted by Airbus issuing more restrictive maintenance requirements and/or airworthiness limitations. We are issuing this AD to prevent the potential of ignition sources inside fuel tanks, which, in combination with flammable fuel vapors, could result in a fuel tank explosion and consequent loss of the airplane.

DATES: This AD is effective November 25, 2016.

The Director of the Federal Register approved the incorporation by reference of a certain publication listed in this AD as of November 25, 2016.

The Director of the Federal Register approved the incorporation by reference of a certain other publication listed in this AD as of November 21, 2012 (77 FR 63716, October 17, 2012).

The Director of the Federal Register approved the incorporation by reference of a certain other publication listed in this AD as of December 14, 2009 (74 FR 62219, November 27, 2009).

The Director of the Federal Register approved the incorporation by reference of a certain other publication listed in this AD as of August 28, 2007 (72 FR 40222, July 24, 2007).

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-5589.

Examining the AD Docket

You may examine the AD docket on the Internet at http://www.regulations.gov by searching for and locating Docket No. FAA-2016-5589; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2012-20-07, Amendment 39-17213 (77 FR 63716, October 17, 2012) (“AD 2012-20-07”). AD 2012-20-07 applied to all Airbus Model A318, A319, A320, and A321 series airplanes. The NPRM published in the Federal Register on April 14, 2016 (81 FR 22033). The NPRM was prompted by Airbus issuing more restrictive maintenance requirements and/or airworthiness limitations. The NPRM proposed to continue to require revising the ALS of the ICA to incorporate new limitations for fuel tank systems in accordance with the type design, and revising the maintenance program to incorporate revised fuel maintenance and inspection tasks. The NPRM also proposed to require revising the maintenance or inspection program to incorporate revised fuel airworthiness limitations. We are issuing this AD to prevent the potential of ignition sources inside fuel tanks, which, in combination with flammable fuel vapors, could result in a fuel tank explosion and consequent loss of the airplane.

The European Aviation Safety Agency (EASA), which is the Technical Agent for the Member States of the European Union, has issued EASA Airworthiness Directive 2014-0260, dated December 5, 2014 (referred to after this as the Mandatory Continuing Airworthiness Information, or “the MCAI”), to correct an unsafe condition. The MCAI states:

Prompted by an accident * * *, the Federal Aviation Administration (FAA) published Special Federal Aviation Regulation (SFAR) 88, and the Joint Aviation Authorities (JAA) published interim Policy INT/POL/25/12. In response to these regulations, Airbus conducted a design review to develop Fuel Airworthiness Limitations (FAL) for Airbus A320 family aeroplanes.

The FAL were specified in Airbus A318/A319/A320/A321 FAL document ref. 95A.1931/05 at issue 04 for A318/A319/A320/A321 aeroplanes. This document was approved by the European Aviation Safety Agency (EASA) and is now referenced in Airbus A318/A319/A320/A321 ALS Part 5 to comply with EASA policy statement (EASA D2005/CPRO).

Failure to comply with items as identified in Airbus A318/A319/A320/A321 ALS Part 5 could result in a fuel tank explosion and consequent loss of the aeroplane.

For the reasons described above, this [EASA] AD retains the requirements of EASA AD 2011-0155R1, which is superseded [and which corresponds to FAA AD 2012-20-07], and requires implementation of the new or more restrictive maintenance requirements and/or airworthiness limitations as specified in Airbus A318/A319/A320/A321 ALS Part 5 at Rev.01.

* * * * *

The required action is revising the maintenance or inspection program to incorporate revised fuel airworthiness limitations. You may examine the MCAI in the AD docket on the Internet at http://www.regulations.gov by searching for and locating Docket No. FAA-2016-5589.

Comments

We gave the public the opportunity to participate in developing this AD. The following presents the comments received on the NPRM and the FAA's response to each comment.

Support for the NPRM

The Airline Pilots Association, International stated that it supports the intent of the NPRM.

Request To Clarify and Revise Applicability

American Airlines (AAL) asked if airplanes with an operating certificate issued after the applicability date of July 19, 2014, in paragraph (c) of the NPRM, are excluded from the proposed requirements. AAL stated that it has received several Model A321 airplanes after July 19, 2014, that have the fuel tank inerting system (FTIS) installed in production; AAL thinks the requirement to replace the air separation module (ASM) having P/N 2060017-102 every 27,000 flight hours and other tasks listed in Airbus A318/A319/A320/A321 ALS Part 5, Fuel Airworthiness Limitations, Revision 01, dated July 9, 2014 (“ALS part 5 R01”), should apply to these airplanes. AAL requested that we revise the applicability by removing the July 19, 2014, date in paragraph (c) of the proposed AD and revising the applicability to be in sync with ALS part 5 R01.

We partially agree with AAL's requests. We agree that clarification is necessary. AAL stated that, for airplanes with the FTIS installed, operators must incorporate the ALS associated with the system in accordance with ALS part 5 R01. However, we would like to reiterate the information stated in the preamble of the NPRM under “Airworthiness Limitations Based on Type Design,” which states that operators of airplanes with an original certificate of airworthiness or original export certificate of airworthiness issued after July 19, 2014, must comply with the airworthiness limitations specified as part of the approved type design. These airplanes are not subject to the requirements of this AD. Therefore, if an airplane's type design includes systems such as the FTIS, then the corresponding ALS specified as part of the approved type design should address those systems as appropriate, and must be incorporated into the maintenance/inspection programs. Therefore, we disagree with AAL's request to change the applicability of this AD. We have not changed this AD in this regard.

Request To Remove Task Requirement

AAL requested that we remove “Task 470000-05-1” from paragraph (j)(2) of the proposed AD because this is a one-time task, which AAL has completed.

We do not agree with AAL's request. Even if the current U.S. registered fleet already complies with the requirements of “Task 470000-05-1” in paragraph (j)(2) of this AD, the requirement is still necessary to ensure that any affected airplane imported and placed on the U.S. register in the future complies as well. We have not changed this AD in this regard.

Request To Revise Service Information

AAL requested that we revise paragraph (j)(2)(ii) of the proposed AD to include Airbus Service Bulletins A320-47-1025 and A320-47-1026, which apply to AAL's airplanes.

We do not agree with AAL's request. AAL's suggested changes are for the retained requirements of AD 2012-20-07. Accomplishing the requirements of paragraph (l) of this AD terminates the retained requirements of paragraph (j) of this AD. Therefore, no change to this AD is needed in this regard.

Request To Revise Service Information

AAL requested that we revise table 1 to paragraph (j)(4) of the proposed AD to include ASMs having P/N 2060017-103 to ensure that these parts are being tracked for removal every 27,000 flight hours. AAL stated that 25 airplanes in its fleet are equipped with ASMs having P/N 2060017-103.

We do not agree with AAL's request. The suggested changes are for the retained requirements of AD 2012-20-07. Adding additional requirements to the retained requirements could put operators out of compliance. As previously stated, incorporating the requirements of paragraph (l) of this AD terminates the requirements of paragraph (j) of this AD. Therefore, no change to this AD is needed in this regard.

Request for Alternative Method of Compliance (AMOC) Approval

Spirit Airlines requested that we revise the NPRM to specify that AMOC ANM-116-16-248 is approved as a means of compliance for the actions proposed in paragraph (i) of the proposed AD. Spirit Airlines stated that this AMOC permits the use of Airbus A318/A319/A320/A321 ALS Part 5, Fuel Airworthiness Limitations, Revision 02, dated December 18, 2015.

We agree with Spirit Airlines that AMOC ANM-116-16-248 is approved as a method of compliance for the corresponding provisions of paragraph (i) of this AD. However, no change is necessary to this AD because paragraph (n)(1)(ii) of this AD already specifies that AMOCs approved previously for AD 2012-20-07 are approved as AMOCs for the corresponding provisions of this AD.

Conclusion

We reviewed the available data, including the comments received, and determined that air safety and the public interest require adopting this AD as proposed except for minor editorial changes. We have determined that these changes:

• Are consistent with the intent that was proposed in the NPRM for correcting the unsafe condition; and

• Do not add any additional burden upon the public than was already proposed in the NPRM.

Related Service Information Under 1 CFR Part 51

Airbus has issued A318/A319/A320/A321 ALS Part 5, Fuel Airworthiness Limitations, Revision 01, dated July 9, 2014. The service information describes fuel system airworthiness limitations. This service information is reasonably available because the interested parties have access to it through their normal course of business or by the means identified in the ADDRESSES section.

Costs of Compliance

We estimate that this AD affects 953 airplanes of U.S. registry.

The actions required by AD 2012-20-07 and retained in this AD take about 4 work-hours per product, at an average labor rate of $85 per work-hour. Based on these figures, the estimated cost of the actions that are required by AD 2012-20-07 is $340 per product.

We also estimate that it would take about 1 work-hour per product to comply with the basic requirements of this AD. The average labor rate is $85 per work-hour. Based on these figures, we estimate the cost of this AD on U.S. operators to be $81,005, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-20-07, Amendment 39-17213 (77 FR 63716, October 17, 2012), and adding the following new AD:

2016-20-12 Airbus: Amendment 39-18678; Docket No. FAA-2016-5589; Directorate Identifier 2014-NM-252-AD.

(a) Effective Date

This AD is effective November 25, 2016.

(b) Affected ADs

This AD replaces AD 2012-20-07, Amendment 39-17213 (77 FR 63716, October 17, 2012) (“AD 2012-20-07”).

(c) Applicability

This AD applies to the Airbus airplanes identified in paragraphs (c)(1) through (c)(4) of this AD, certificated in any category, with an original certificate of airworthiness or original export certificate of airworthiness issued on or before July 19, 2014.

(1) Model A318-111, -112, -121, and -122 airplanes.

(2) Model A319-111, -112, -113, -114, -115, -131, -132, and -133 airplanes.

(3) Model A320-211, -212, -214, -231, -232, and -233 airplanes.

(4) Model A321-111, -112, -131, -211, -212, -213, -231, and -232 airplanes.

(d) Subject

Air Transport Association (ATA) of America Code 05, Periodic inspections.

(e) Reason

This AD was prompted by Airbus issuing more restrictive maintenance requirements and/or airworthiness limitations. We are issuing this AD to prevent the potential of ignition sources inside fuel tanks, which, in combination with flammable fuel vapors, could result in a fuel tank explosion and consequent loss of the airplane.

(f) Compliance

Comply with this AD within the compliance times specified, unless already done.

(g) Retained Revision of the Airworthiness Limitations Section (ALS) To Incorporate Fuel Maintenance and Inspection Tasks, With No Changes

This paragraph restates the requirements of paragraph (g) of AD 2012-20-07, with no changes. For Model A318-111 and -112 airplanes, and Model A319, A320, and A321 airplanes: Within 3 months after August 28, 2007 (the effective date of AD 2007-15-06, Amendment 39-15135 (72 FR 40222, July 24, 2007) (“AD 2007-15-06”)), revise the ALS of the Instructions for Continued Airworthiness to incorporate Airbus A318/A319/A320/A321 ALS Part 5—Fuel Airworthiness Limitations, dated February 28, 2006, as defined in Airbus A318/A319/A320/A321 Fuel Airworthiness Limitations, Document 95A.1931/05, Issue 1, dated December 19, 2005 (approved by the European Aviation Safety Agency (EASA) on March 14, 2006), Section 1, “Maintenance/Inspection Tasks;” or Airbus A318/A319/A320/A321 Fuel Airworthiness Limitations, Document 95A.1931/05, Issue 2, dated July 8, 2008 (approved by the EASA on December 19, 2008), Section 1, “Maintenance/Inspection Tasks.” For all tasks identified in Section 1, “Maintenance/Inspection Tasks,” of Airbus A318/A319/A320/A321 Fuel Airworthiness Limitations, Document 95A.1931/05, Issue 1, dated December 19, 2005; or Issue 2, dated July 8, 2008; the initial compliance times start from August 28, 2007 (the effective date of AD 2007-15-06), and the repetitive inspections must be accomplished thereafter at the intervals specified in Section 1, “Maintenance/Inspection Tasks,” of Airbus A318/A319/A320/A321 Fuel Airworthiness Limitations, Document 95A.1931/05, Issue 1, dated December 19, 2005; or Issue 2, dated July 8, 2008.

Note 1 to paragraph (g) of this AD: Guidance on identifying the applicable sections of the Airbus A318/A319/A320/A321 Airplane Maintenance Manual for accomplishing the tasks specified in Section 1 “Maintenance/Inspection Tasks,” of Airbus A318/A319/A320/A321 Fuel Airworthiness Limitations, Document 95A.1931/05, Issue 1, dated December 19, 2005; or Issue 2, dated July 8, 2008, can be found in Airbus Operator Information Telex (OIT) SE 999.0076/06, dated June 20, 2006.

(h) Retained Revision of the ALS To Incorporate Critical Design Configuration Control Limitations (CDCCLs), With No Changes

This paragraph restates the requirements of paragraph (h) of AD 2012-20-07, with no changes. For Airbus Model A318-111 and -112 airplanes, and Model A319, A320, and A321 airplanes: Within 12 months after August 28, 2007 (the effective date of AD 2007-15-06), revise the ALS of the Instructions for Continued Airworthiness to incorporate Airbus A318/A319/A320/A321 ALS Part 5—Fuel Airworthiness Limitations, dated February 28, 2006, as defined in Airbus A318/A319/A320/A321 Fuel Airworthiness Limitations, Document 95A.1931/05, Issue 1, dated December 19, 2005 (approved by EASA on March 14, 2006), Section 2, “Critical Design Configuration Control Limitations;” or Airbus A318/A319/A320/A321 Fuel Airworthiness Limitations, Document 95A.1931/05, Issue 2, dated July 8, 2008 (approved by EASA on December 19, 2008), Section 2, “Critical Design Configuration Control Limitations.”

(i) Retained Requirement of AD 2012-20-07: No Alternative Inspections, Inspection Intervals, or CDCCLs, With New Exception

This paragraph restates the requirements of paragraph (i)(1) of AD 2012-20-07, with new exception. Except as provided by paragraph (n)(1) of this AD: After accomplishing the actions specified in paragraphs (g) and (h) of this AD, no alternative inspections, inspection intervals, or CDCCLs may be used.

(j) Retained Revision of the Maintenance Program, With Specific Delegation Approval Language in Paragraph (j)(4) of This AD

This paragraph restates the requirements of paragraph (j) of AD 2012-20-07, with specific delegation approval language in paragraph (j)(4) of this AD. Within 6 months after November 21, 2012 (the effective date of AD 2012-20-07): Revise the maintenance program to incorporate the new or revised tasks, life limits, and CDCCLs specified in Airbus A318/A319/A320/A321 Fuel Airworthiness Limitations, Document 95A.1931/05, Issue 4, dated August 26, 2010, except as required in paragraph (j)(4) of this AD. The initial compliance times and intervals are stated in this ALS document, except as required in paragraphs (j)(1) through (j)(4) of this AD, or within 6 months after November 21, 2012, whichever occurs later. For certain tasks, the compliance times depend on the pre-modification and post-modification status of the airplane. Incorporating the requirements of this paragraph terminates the corresponding requirements of paragraphs (g) and (h) of this AD only.

(1) For airplanes for which the first flight occurred before August 28, 2007 (the effective date of AD 2007-15-06), the first accomplishment of Tasks 281800-01-1, Functional Check of Tank Vapour Seal and Vent Drain System; and 281800-02-1, Detailed Inspection of Vapour Seal; must be performed no later than 11 months after November 21, 2012 (the effective date of AD 2012-20-07).

(2) The first accomplishment of Tasks 470000-01-1, Operational Check of Dual Flapper Shutoff Valves (DFSOV), Dual Flapper Check Valves and Nitrogen Enriched Air (NEA) Line for Leaks; 470000-02-1, Operational Check of Both Dual Flapper Check Valves for Leaks; 470000-03-1, Operational Check of Dual Flapper Check Valves for Reverse Flow and NEA Line for Leaks; 470000-04-1, Operational Check of Dual Flapper Check Valves for Reverse Flow; and 470000-05-1, Remove Air Separation Module (ASM) and Return to Vendor for Workshop Check; must be calculated, in accordance with paragraph (j)(2)(i) or (j)(2)(ii) of this AD.

(i) From the airplane first flight for airplanes on which Airbus modification 38062 or 38195 has been embodied in production.

(ii) From the in-service installation of the fuel tank inerting system specified in Airbus Service Bulletin A320-47-1001, Airbus Service Bulletin A320-47-1002, Airbus Service Bulletin A320-47-1003, Airbus Service Bulletin A320-47-1004, Airbus Service Bulletin A320-47-1006, or Airbus Service Bulletin A320-47-1007.

(3) Although Airbus A318/A319/A320/A321 Fuel Airworthiness Limitations, Document 95A.1931/05, Issue 4, dated August 26, 2010, does not refer to Airbus Service Bulletin A320-47-1006 and Airbus Service Bulletin A320-47-1007, the tasks apply as specified in paragraphs (j)(3)(i) through (j)(3)(iv) of this AD.

(i) Tasks 470000-01-1, Operational Check of DFSOV, Dual Flapper Check Valves and NEA Line for Leaks; and 470000-02-1, Operational Check of Both Dual Flapper Check Valves for leaks; apply to airplanes that have previously accomplished the actions specified in Airbus Service Bulletin A320-47-1007.

(ii) Task 470000-03-1, Operational Check of Dual Flapper Check Valves for Reverse Flow and NEA Line for Leaks, applies to airplanes that have previously accomplished the actions specified in Airbus Service Bulletin A320-47-1006, and that have not accomplished the actions specified in Airbus Service Bulletin A320-47-1007.

(iii) Task 470000-04-1, Operational Check of Dual Flapper Check Valves for Reverse Flow, applies to airplanes in post-modification 38195 configuration and that have not accomplished the actions specified in Airbus Service Bulletin A320-47-1007.

(iv) Task 470000-05-1, Remove ASM and return to Vendor for Workshop Check, applies to airplanes that have previously accomplished the actions specified in Airbus Service Bulletin A320-47-1007, and are in pre-modification 151529 configuration.

(4) Replace each ASM identified in table 1 to paragraph (j)(4) of this AD in accordance with a method approved by either the Manager, International Branch, ANM-116, Transport Airplane Directorate, FAA; or EASA (or its delegated agent); or Airbus's EASA Design Organization Approval (DOA). The compliance time for the replacement is before the accumulation of 27,000 total flight hours (component time)—i.e., the life limitation.

Note 2 to paragraph (j)(4) of this AD: Guidance for accomplishment of the removal and replacement of the ASM can be found in Airbus A318/A319/A320/A321 Aircraft Maintenance Manual Task 47-10-43-920-001-A, Air Separation Module Replacement.

Table 1 to Paragraph (j)(4) of This AD—ASM Replacement
Affected airplane configuration | ASM part No.
Post-modification 38062 | 2060017-101
Post-Airbus Service Bulletin A320-47-1002 | 2060017-101
Post-Airbus Service Bulletin A320-47-1004 | 2060017-101
Post-Airbus Service Bulletin A320-47-1007 | 2060017-101
Post-modification 152033 | 2060017-102
Post-Airbus Service Bulletin A320-47-1011 | 2060017-102

(k) Retained Requirement: No Alternative Actions, Intervals, and/or CDCCLs, With No Changes

This paragraph restates the requirements of paragraph (k) of AD 2012-20-07, with no changes. Except as required by paragraph (l) of this AD, after accomplishing the revisions required by paragraph (j) of this AD, no alternative actions (e.g., inspections), intervals, and/or CDCCLs may be used other than those specified in Airbus A318/A319/A320/A321 ALS Part 5—Fuel Airworthiness Limitations, dated February 28, 2006, as defined in Airbus A318/A319/A320/A321 Fuel Airworthiness Limitations, Document 95A.1931/05, Issue 4, dated August 26, 2010, unless the actions, intervals, and/or CDCCLs are approved as an alternative method of compliance (AMOC) in accordance with the procedures specified in paragraph (n)(1) of this AD.

(l) New Requirement of This AD: Revise the Maintenance or Inspection Program

Within 60 days after the effective date of this AD, revise the maintenance or inspection program, as applicable, by incorporating the fuel airworthiness limitations (e.g., life limits, tasks, and CDCCLs, and associated thresholds and intervals) described in Airbus A318/A319/A320/A321 ALS Part 5, Fuel Airworthiness Limitations, Revision 01, dated July 9, 2014. The initial compliance times for the tasks are at the times specified in Airbus A318/A319/A320/A321 ALS Part 5, Fuel Airworthiness Limitations, Revision 01, dated July 9, 2014, or within 60 days after the effective date of this AD, whichever occurs later. Incorporating the requirements of this paragraph terminates the requirements of paragraphs (g) through (k) of this AD.

(m) New Requirement of This AD: No Alternative Actions, Intervals, or CDCCLs

After the maintenance or inspection program has been revised as required by paragraph (l) of this AD, no alternative actions (e.g., inspections), intervals, or CDCCLs may be used unless the actions, intervals, or CDCCLs are approved as an AMOC in accordance with the procedures specified in paragraph (n)(1) of this AD.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2012-20-07 are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(o) Related Information

(1) Refer to Mandatory Continuing Airworthiness Information (MCAI) EASA Airworthiness Directive 2014-0260, dated December 5, 2014, for related information. This MCAI may be found in the AD docket on the Internet at http://www.regulations.gov by searching for and locating Docket No. FAA-2016-5589.

(2) Service information identified in this AD that is not incorporated by reference is available at the addresses specified in paragraphs (p)(7) and (p)(8) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 25, 2016.

(i) Airbus A318/A319/A320/A321 Airworthiness Limitations Section (ALS) Part 5, Fuel Airworthiness Limitations, Revision 01, dated July 9, 2014. The title page of this document does not contain the revision date. The remaining pages of this document do not include the revision level.

(ii) Reserved.

(4) The following service information was approved for IBR on November 21, 2012 (77 FR 63716, October 17, 2012).

(i) Airbus A318/A319/A320/A321 Fuel Airworthiness Limitations, Document 95A.1931/05, Issue 4, dated August 26, 2010.

(ii) Reserved.

(5) The following service information was approved for IBR on December 14, 2009 (74 FR 62219, November 27, 2009).

(i) Airbus A318/A319/A320/A321 Fuel Airworthiness Limitations, Document 95A.1931/05, Issue 2, dated July 8, 2008.

(ii) Reserved.

(6) The following service information was approved for IBR on August 28, 2007 (72 FR 40222, July 24, 2007).

(i) Airbus A318/A319/A320/A321 Fuel Airworthiness Limitations, Document 95A.1931/05, Issue 1, dated December 19, 2005.

(ii) Reserved.

(7) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(8) You may view this service information at the FAA, Transport Airplane Directorate, 1601 Lind Avenue SW., Renton, WA. For information on the availability of this material at the FAA, call 425-227-1221.

(9) You may view this service information that is incorporated by reference at the National Archives and Records Administration (NARA). For information on the availability of this material at NARA, call 202-741-6030, or go to: http://www.archives.gov/federal-register/cfr/ibr-locations.html.

Issued in Renton, Washington, on September 28, 2016.
Dionne Palermo,
Acting Manager, Transport Airplane Directorate, Aircraft Certification Service.

[FR Doc. 2016-24078 Filed 10-19-16; 8:45 am]

BILLING CODE 4910-13-P